DEPARTMENT OF COMMERCE

International Trade Administration

[A-570-918]

Steel Wire Garment Hangers From the People's Republic of China: Final Results of Antidumping Duty Administrative Review; 2018-2019

AGENCY: Enforcement and Compliance, International Trade Administration, Department of Commerce.

SUMMARY: The Department of Commerce (Commerce) continues to find that Shanghai Wells Hanger Co., Ltd., and Hong Kong Wells Ltd. (collectively, Shanghai Wells) failed to demonstrate eligibility for separate rate status during the period of review (POR), and therefore is part of the China-wide entity. The POR is October 1, 2018 through September 30, 2019.

DATES: Applicable August 11, 2020.

FOR FURTHER INFORMATION CONTACT: Jasun Moy, AD/CVD Operations, Office V, Enforcement and Compliance, International Trade Administration, Department of Commerce, 1401 Constitution Avenue NW, Washington, DC 20230; telephone: (202) 482-8194.

SUPPLEMENTARY INFORMATION:

Background

On May 15, 2020, Commerce published the Preliminary Results of the administrative review of the antidumping duty (AD) order on steel wire garment hangers from the People's Republic of China (China).¹ We invited interested parties to comment on the Preliminary Results. We received no comments from interested parties.² As such, these final results are unchanged from the Preliminary Results.

¹ See Steel Wire Garment Hangers from the People's Republic of China: Preliminary Results of Antidumping Duty Administrative Review and Rescission of Review in Part; 2018-2019, 85 FR 29403 (May 15, 2020) (Preliminary Results).

² On June 3, 2020, M&B Metal Products Co., Inc (the petitioner) submitted a case brief in which it stated that “Petitioner has no comments on the Department's Preliminary Results.” See Petitioner's Letter, “Administrative Review of Steel Wire Garment Hangers from China—Petitioner's Case Brief,” dated June 3, 2020.

Scope of the Order

The merchandise that is subject to the order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. Also excluded from the scope of the order are chrome-plated steel wire garment hangers with a diameter of 3.4 mm or greater. The products subject to the order are currently classified under Harmonized Tariff Schedule U.S. (HTSUS) subheadings 7326.20.0020, 7323.99.9060, and 7323.99.9080. Although the HTSUS subheadings are provided for convenience and customs purposes, the written description of the merchandise is dispositive.

Methodology

Commerce conducted this review in accordance with section 751(a)(1)(B) of the Tariff Act of 1930, as amended (the Act). As noted in the Preliminary Results, Shanghai Wells did not respond to the issued standard non-market economy (NME) questionnaire and has filed no submissions on the record of this administrative review, including information concerning its eligibility for a separate rate.³ Therefore, Commerce preliminarily determined that Shanghai Wells is not eligible for a separate rate and is part of the China-wide entity.

³ See Preliminary Results, 85 FR at 29404.

As noted above, we received no comments on the Preliminary Results. Therefore, we have made no changes to the Preliminary Results. Because there are no changes for these final results from the Preliminary Results, there is no accompanying Issues and Decision Memorandum.

Final Results of the Review

We continue to find that Shanghai Wells is not eligible for a separate rate, and, therefore, it is part of the China-wide entity. The rate previously established for the China-wide entity is 187.25 percent ⁴ and is not subject to change as a result of this review, because no party requested a review of the China-wide entity.⁵

⁴ See Notice of Antidumping Duty Order: Steel Wire Garment Hangers from the People's Republic of China, 73 FR 58111 (October 6, 2008).

⁵ See Antidumping Proceedings: Announcement of Change in Department Practice for Respondent Selection in Antidumping Duty Proceedings and Conditional Review of the Nonmarket Economy Entity in NME Antidumping Duty Proceedings, 78 FR 65963 (November 4, 2013).

Assessment Rates

Pursuant to section 751(a)(2)(C) of the Act and 19 CFR 351.212(b), Commerce has determined, and U.S. Customs and Border Protection (CBP) shall assess, antidumping duties on all appropriate entries of subject merchandise in accordance with the final results of this review.

Commerce intends to issue assessment instructions to CBP 15 days after the date of publication of the final results of this review in the Federal Register.

We will instruct CBP to assess antidumping duties at a rate of 187.25 percent for all entries of subject merchandise during the POR which was exported by Shanghai Wells.

Cash Deposit Requirements

The following cash deposit requirements will be effective upon publication of the final results of this administrative review for shipments of the subject merchandise from China entered, or withdrawn from warehouse, for consumption on or after the publication date of this notice, as provided by section 751(a)(2)(C) of the Act: (1) For previously investigated or reviewed Chinese and non-Chinese exporters of subject merchandise that have received a separate rate in a prior segment of this proceeding, the cash deposit rate will continue to be the existing exporter-specific cash deposit rate published for the most recently completed period; (2) for all Chinese exporters of subject merchandise that have not been found to be entitled to a separate rate, including Shanghai Wells, the cash deposit rate will be the existing cash deposit rate for the China-wide entity, i.e., 187.25 percent; and (3) for all non-Chinese exporters of subject merchandise which have not received their own separate rate, the cash deposit rate will be the rate applicable to the Chinese exporter that supplied that non-Chinese exporter.

These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(1) and 777(i)(1) of the Act and 19 CFR 351.221(b)(5) and 19 CFR 351.213(h)(1).

Dated: August 3, 2020.
Jeffrey I. Kessler,
Assistant Secretary for Enforcement and Compliance.

[FR Doc. 2020-17470 Filed 8-10-20; 8:45 am]

BILLING CODE 3510-DS-P